DEPARTMENT OF HOMELAND SECURITY

Coast Guard

33 CFR Part 117

[Docket No. USCG-2016-1007]

Drawbridge Operation Regulation; Atlantic Intracoastal Waterway (Albemarle and Chesapeake Canal), Chesapeake, VA

AGENCY: Coast Guard, DHS.

ACTION: Notice of deviation from drawbridge regulation.

SUMMARY: The Coast Guard has issued a temporary deviation from the operating schedule that governs the S168 (Battlefield Blvd. S/SR 168 BUS) Bridge across the Albemarle & Chesapeake Canal, mile 12.0, Atlantic Intracoastal Waterway, Chesapeake (Great Bridge), VA. The deviation is necessary to accommodate the 32nd Annual Chesapeake Rotary Christmas Parade. This deviation allows the bridge to remain in the closed-to-navigation position.

DATES: The deviation is effective from 4:00 p.m. to 10:00 p.m., December 3, 2016.

ADDRESSES: The docket for this deviation, [USCG-2016-1007] is available at http://www.regulations.gov. Type the docket number in the “SEARCH” box and click “SEARCH”. Click on Open Docket Folder on the line associated with this deviation.

FOR FURTHER INFORMATION CONTACT: If you have questions on this temporary deviation, call or email Mr. Martin Bridges, Bridge Administration Branch Fifth District, Coast Guard, telephone 757-398-6422, email Martin.A.Bridges@uscg.mil.

SUPPLEMENTARY INFORMATION: The City of Chesapeake, who owns the S168 (Battlefield Blvd. S/SR 168 BUS) Bridge across the Albemarle & Chesapeake Canal, mile 12.0, Atlantic Intracoastal Waterway, Chesapeake (Great Bridge), VA, has requested a temporary deviation from the current operating regulations set out in 33 CFR 117.997(g) to facilitate the 32nd Annual Chesapeake Rotary Christmas Parade.

Under this temporary deviation, the bridge will remain in the closed-to-navigation position from 4:00 p.m. to 6:00 p.m. and from 8:00 p.m. to 10:00 p.m., on December 3, 2016. The closure has been requested to ensure the safety of the increased volume of cars and spectators that will be participating in the 32nd Annual Chesapeake Rotary Christmas Parade. The bridge is a single bascule bridge and has a vertical clearance in the closed-to-navigation position of 8 feet above mean high water.

The Atlantic Intracoastal Waterway (Albemarle and Chesapeake Canal) is used by a variety of vessels including recreational, tug and barge, fishing vessels, and small commercial vessels. The Coast Guard has carefully considered the nature and volume of vessel traffic on the waterway in publishing this temporary deviation.

Vessels able to pass through the bridge in the closed- position may do so at any time. The bridge will open in case of an emergency and there is no immediate alternate route for vessels to pass. The Coast Guard will also inform the users of the waterway through our Local Notice and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: November 29, 2016.
Hal R. Pitts,
Bridge Program Manager, Fifth Coast Guard District.

[FR Doc. 2016-29049 Filed 12-2-16; 8:45 am]

BILLING CODE 9110-04-P